INTERNATIONAL TRADE COMMISSION

[Investigation Nos. 701-TA-552 and 731-TA-1308 (Review)]

Pneumatic Off-the-Road Tires from India

Determination

On the basis of the record ¹ developed in the subject five-year reviews, the United States International Trade Commission (“Commission”) determines, pursuant to the Tariff Act of 1930 (“the Act”), that revocation of the countervailing and antidumping duty orders on pneumatic off-the-road tires from India would be likely to lead to continuation or recurrence of material injury to an industry in the United States within a reasonably foreseeable time.

¹ The record is defined in § 207.2(f) of the Commission's Rules of Practice and Procedure (19 CFR 207.2(f)).

Background

The Commission instituted these reviews on February 1, 2022 (87 FR 5505) and determined on May 9, 2022, that it would conduct full reviews (87 FR 33209, June 1, 2022). Notice of the scheduling of the Commission's reviews and of a public hearing to be held in connection therewith was given by posting copies of the notice in the Office of the Secretary, U.S. International Trade Commission, Washington, DC, and by publishing the notice in the Federal Register on October 21, 2022 (87 FR 64110). The Commission conducted its hearing on March 2, 2023. All persons who requested the opportunity were permitted to participate.

The Commission made these determinations pursuant to section 751(c) of the Act (19 U.S.C. 1675(c)). It completed and filed its determinations in these reviews on April 27, 2023. The views of the Commission are contained in USITC Publication 5417 (April 2023), entitled Pneumatic Off-the-Road Tires from India: Investigation Nos. 701-TA-552 and 731-TA-1308 (Review).

By order of the Commission.
Issued: April 27, 2023.
Lisa Barton,
Secretary to the Commission.

[FR Doc. 2023-09275 Filed 5-1-23; 8:45 am]

BILLING CODE 7020-02-P